DEPARTMENT OF VETERANS AFFAIRS

Corporate Senior Executive Management Office; Notice of Performance Review Board Members

AGENCY: Corporate Senior Executive Management Office, Department of Veterans Affairs.

ACTION: Notice.

SUMMARY: Under the provisions of 5 U.S.C. 4314(c)(4) agencies are required to publish a notice in the Federal Register of the appointment of Performance Review Board (PRB) members. This notice announces the appointment of individuals to serve on the PRB of the Department of Veterans Affairs.

DATES: August 25, 2016.

ADDRESSES: Corporate Senior Executive Management Office, Department of Veterans Affairs, 810 Vermont Avenue NW., Washington, DC 20420.

FOR FURTHER INFORMATION CONTACT: Contact Tia N. Butler, Executive Director, Corporate Senior Executive Management Office (052), Department of Veterans Affairs, 810 Vermont Avenue NW., Washington, DC 20420, (202) 461-7865.

SUPPLEMENTARY INFORMATION: The membership of the Department of Veterans Affairs Performance Review Board is as follows:

Snyder, Robert D. (Chair)

Wright, Vivieca (Simpson)

Breyfogle, Cynthia

McCarthy, Maureen Fay

Murray, Patricia

Mayes, Bradley

Frueh, Michael

Giddens, Gregory

Hanson, Anita

Hogan, Michael

Thompson, Ronald

Hudson, Kathy

Yehia, Baligh, R. (Alternate)

Pape, Lisa (Alternate)

Rawls, Cheryl (Alternate)

Reynolds, Robert (Alternate)

Sullivan, Matthew (Alternate)

Lowe, Roberta (Alternate)

Tran, Dat (Alternate)

Kennedy, Tammy (Alternate)

Enomoto, Kana (Alternate)

Constantian, Alan (Alternate)

Signing Authority

The Secretary of Veterans Affairs, or designee, approved this document and authorized the undersigned to sign and submit the document to the Office of the Federal Register for publication electronically as an official document of the Department of Veterans Affairs. Gina S. Farrisee, Deputy Chief of Staff, approved this document for publication on August 25, 2016.

Authority: 5 U.S.C. 4314(c)(4).

Dated: August 25 2016.
Jeffrey Martin,
Office Program Manager, Office of Regulation Policy & Management, Office of the Secretary, Department of Veterans Affairs.

[FR Doc. 2016-22298 Filed 9-15-16; 8:45 am]

BILLING CODE 8320-01-P